DEPARTMENT OF JUSTICE

Federal Bureau of Investigation

[OMB Number 1110-0022]

Electronic Surveillance Technology Section; Agency Information Collection Activities: Current Collection; Comment Requested

ACTION: 30-Day Notice of Information Collection Under Review of a Currently Approved Collection for which to due to Expire; Cost Recovery Regulations, Communications Assistance for Law Enforcement Act of 1994.

The Department of Justice (DOJ), Federal Bureau of Investigation (FBI) will be submitting the following information collection request to the Office of Management and Budget (OMB) for review and approval in accordance with the Paperwork Reduction Act of 1995. The proposed information collection is published to obtain comments from the public and affected agencies. This proposed information collection was previously published in the Federal Register Volume 71, Number 229, pages 69146-69147 on November 29, 2006, allowing for a 60 day comment period.

The purpose of this notice is to allow for an additional “thirty days” for public comment until February 28, 2007. This process is conducted in accordance with 5 CFR 1320.10.

If you have comments, especially on the estimated public burden or associated response time, suggestions, or need a copy of the proposed information collection instrument with instructions or additional information, please contact Porter Dunn, Federal Bureau of Investigation, U.S. Department of Justice, ESTS, 14800 Conference Center Drive, Suite 200, Chantilly, Virginia 20151.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of Information Collection: Approval, without change, of a currently approved collection for which approval is due to expire.

(2) Title of the Form/Collection: Cost Recovery Regulations, 28 CFR 100.9 et seq.

(3) Agency form number, if any, and the applicable component of the Department sponsoring the collection: None. Federal Bureau of Investigation, United States Department of Justice.

(4) Affected public who will be asked or required to respond, as well as a brief abstract: Primary: Business or other for-profit. Other: None. The Cost Recovery Regulations have been adopted to assist the telecommunications industry in any submission of claims pursuant to Section 109(a) and (e) of the Communications Assistance for Law Enforcement Act, codified at 47 U.S.C. 1001-1010 (1994).

(5) An estimate of the total number of respondents and the amount of time estimated for an average respondent to respond/reply: The average time burden of the approximately 4 respondents to provide the information requested is approximately 4 hours per response and an estimated 5 responses (per respondent).

(6) An estimate of the total public burden (in hours) associated with the collection: The total annual hour burden to provide the information requested through the Cost Recovery Regulations is therefore approximately 80 hours (4 respondents x 5 responses x 4 hours per response).

If additional information is required, contact: Lynn Bryant, Department Clearance Office, United States Department of Justice, Justice Management Division, Policy and Planning Staff, Suite 1600, Patrick Henry Building, 601 D Street, NW., Washington, DC 20530.

Dated: January 24, 2007.
Lynn Bryant,
Department Clearance Office, PRA, United States Department of Justice.

[FR Doc. E7-1358 Filed 1-26-07; 8:45 am]

BILLING CODE 4410-02-P